CORPORATION FOR NATIONAL AND COMMUNITY SERVICE

Notice Inviting Public Input on Executive Order 13985

AGENCY: Corporation for National and Community Service.

ACTION: Request for comment.

SUMMARY: In accordance with Executive Order 13985 of January 20, 2021, the Corporation for National and Community Service, operating as AmeriCorps, is inviting public comment from any interested party, including current and former AmeriCorps program award recipients, regarding any barriers that they, or the communities they served, faced in accessing benefits and services offered by AmeriCorps' programs.

DATES: To be considered, public comments must be received electronically no later than midnight eastern standard time (EST) on August 2, 2021.

ADDRESSES: Public comments should be submitted online at http://www.regulations.gov; search for “Request for Information (RFI) from Non-Federal Stakeholders: Advancing Racial Equity and Support for Underserved Communities.” Comments submitted electronically, including attachments, will be posted to the docket unchanged and available to view by the public. Documents and information supporting your comment may be submitted as attachments. Please provide your contact information or organization name on the web-based form for possible follow-up from AmeriCorps. There is a 5,000-character limit on comments and maximum number (10) of attached files and maximum size (10 MB) of each attached file.

FOR FURTHER INFORMATION CONTACT: Kiara Rhodes, Honors Attorney, AmeriCorps, at krhodes@cns.gov or (202) 937-6965.

SUPPLEMENTARY INFORMATION: On January 20, 2021, President Biden signed Executive Order 13985, “Advancing Racial Equity and Support for Underserved Communities Through the Federal Government,” to address racial, economic, and other disparities faced by underserved communities in the United States. The Order requires Federal agencies to conduct an equity assessment. In furthering this Agency's commitment to bringing together and serving all communities, AmeriCorps seeks general public input on the following:

1. Potential barriers that underserved communities and individuals may face to enrollment in and access to benefits and services in AmeriCorps programs;

2. Potential barriers that underserved communities and individuals may face in taking advantage of Agency procurement and contracting opportunities;

3. Whether new policies, regulations, or guidance documents may be necessary to advance equity in Agency actions and programs; and

4. Knowledge of any offices or divisions within the Agency that are responsible for advancing civil rights or whose mandates specifically include serving underrepresented or disadvantaged communities.

Dated: July 7, 2021.
Fernando Laguarda,
General Counsel.

[FR Doc. 2021-14735 Filed 7-9-21; 8:45 am]

BILLING CODE 6050-28-P